AGENCY FOR INTERNATIONAL DEVELOPMENT

Notice of Public Information Collection Requirements Submitted to OMB for Review

SUMMARY: U.S. Agency for International Development (USAID) has submitted the following information collection to OMB for review and clearance under the Paperwork Reduction Act of 1995. Public Law 104-13. Comments regarding this information collection are best assured of having their full effect if received within 30 days of this notification. Comments should be sent via e-mail to David_Rostker @omb.eop.gov or fax (202) 395-7285. Copies of submission may be obtained by calling (202) 712-1365.

SUPPLEMENTARY INFORMATION: OMB Number: OMB 0412-0554.

Form Number: None.

Title: Training Results and Information Network (TraiNet).

Type of Submission: Renewal of information collection.

Purpose: The purpose of this information collection is to enable the planning and reporting of information on all USAID training activities, including in-country training. Data collected by USAID and/or its partners via TraiNet includes measures of results and performance monitoring, training participant and program identification, and cost and cost-sharing.

Annual Reporting Burden:

Respondents: 374.

Total annual responses: 15,720.

Total annual hours requested: 2,620 hours.

Dated: August 30, 2004.
Joanne Paskar,
Chief, Information and Records Division, Office of Administrative Services, Bureau for Management.

[FR Doc. 04-20046 Filed 9-1-04; 8:45 am]

BILLING CODE 6116-01-M